Title 3—

The President

Proclamation 9858 of April 1, 2019

World Autism Awareness Day, 2019

By the President of the United States of America

A Proclamation

On World Autism Awareness Day, we honor the millions of Americans living with autism spectrum disorder (ASD), who, in spite of the challenges they may face, continue to make extraordinary contributions to their families, their communities, our Nation, and the world. We also express our sincere appreciation to the families, friends, medical professionals, and caregivers who help Americans with ASD pursue the American Dream.

As a Nation, we must continue to support Americans with ASD. My Administration has worked to fund cutting-edge research, optimize health systems, and enhance available resources and treatments that will benefit people with ASD. Ongoing Federal research efforts to understand the health and development of children with ASD have recently expanded to include adolescents and young adults, thereby advancing our knowledge of ASD beyond childhood. Additionally, our economic policies have created the lowest unemployment rate in history for Americans with disabilities, and recent Federal investments in apprenticeship programs for individuals with ASD will help provide more pathways to stable employment.

Ensuring the safety of all Americans with ASD is a priority of my Administration. Last year, I was pleased to sign into law Kevin and Avonte's Law, which expands the existing Federal emergency alert program to include people with ASD and other cognitive disorders who may wander from safety. This legislation also authorizes funding for tracking technologies and specialized training for caregivers to help prevent and respond to instances of wandering. These investments will help put concerned families at ease, reduce the risk of tragedies, and improve the quality of life for individuals with ASD, their families, and caregivers.

Today, we celebrate the tremendous accomplishments of Americans with ASD and reaffirm our commitment to work together to ensure that every member of our society is afforded equal opportunities to reach their full potential.

NOW, THEREFORE, I, DONALD J. TRUMP, President of the United States of America, by virtue of the authority vested in me by the Constitution and the laws of the United States, do hereby proclaim April 2, 2019, as World Autism Awareness Day. I call upon all Americans to learn more about the signs of autism to improve early diagnosis, understand the challenges faced by individuals with autism, and find ways to support those with autism and their families.

IN WITNESS WHEREOF, I have hereunto set my hand this first day of April, in the year of our Lord two thousand nineteen, and of the Independence of the United States of America the two hundred and forty-third.

[FR Doc. 2019-06953

Filed 4-4-19; 11:15 am]

Billing code 3295-F9-P